DEPARTMENT OF ENERGY

Federal Energy Regulatory Commission

Combined Notice of Filings #1

Take notice that the Commission received the following electric rate filings:

Docket Numbers: ER10-2633-035; ER10-2570-035; ER10-2717-035; ER10-3140-034; ER13-55-024.

Applicants: Birchwood Power Partners, L.P., Shady Hills Power Company, L.L.C., EFS Parlin Holdings, LLC, Inland Empire Energy Center, LLC, Homer City Generation, L.P.

Description: Notice of Non-Material Change in Status of the GE MBR Affiliates.

Filed Date: 12/10/18.

Accession Number: 20181210-5235.

Comments Due: 5 p.m. ET 12/31/18.

Docket Numbers: ER10-2641-031; ER10-1874-007; ER10-2663-032; ER10-2881-032; ER10-2882-034; ER10-2883-032; ER10-2884-032; ER10-2885-032; ER16-2509-003; ER17-2400-003; ER17-2401-003; ER17-2403-003; ER17-2404-003.

Applicants: Oleander Power Project, Limited Partnership, Southern Company—Florida LLC, Mankato Energy Center, LLC, Alabama Power Company, Southern Power Company, Mississippi Power Company, Georgia Power Company, Gulf Power Company, Rutherford Farm, LLC, SP Butler Solar, LLC, SP Decatur Parkway Solar, LLC, SP Pawpaw Solar, LLC, SP Sandhills Solar, LLC.

Description: Errata to May 3, 2018 Notification of Change in Status [Format Corrected Asset Appendix] of Oleander Power Project, Limited Partnership, et al. under ER10-2641, et al.

Filed Date: 12/6/18.

Accession Number: 20181206-5366.

Comments Due: 5 p.m. ET 12/27/18.

Docket Numbers: ER15-794-008.

Applicants: ND Paper, Inc.

Description: Amendment to July 30, 2018 Notification of Change in Status of ND Paper, Inc.

Filed Date: 12/11/18.

Accession Number: 20181211-5086.

Comments Due: 5 p.m. ET 1/2/19.

Docket Numbers: ER18-296-001.

Applicants: Phibro Americas LLC.

Description: Notice of Non-Material Change in Status of Phibro Americas LLC.

Filed Date: 12/10/18.

Accession Number: 20181210-5224.

Comments Due: 5 p.m. ET 12/31/18.

Docket Numbers: ER18-2318-001.

Applicants: Southwest Power Pool, Inc.

Description: Compliance filing: Deficiency Response in ER18-2318—Order No. 844 Compliance Filing to be effective N/A.

Filed Date: 12/10/18.

Accession Number: 20181210-5202.

Comments Due: 5 p.m. ET 12/31/18.

Docket Numbers: ER19-526-000.

Applicants: AC Energy, LLC.

Description: Baseline eTariff Filing: Market-Based Rate Tariff Application to be effective 1/1/2019.

Filed Date: 12/10/18.

Accession Number: 20181210-5179.

Comments Due: 5 p.m. ET 12/31/18.

Docket Numbers: ER19-527-000.

Applicants: Midcontinent Independent System Operator, Inc., ALLETE, Inc.

Description: § 205(d) Rate Filing: 2018-12-10_SA 3221 MP-GRE T-L IA (Pepin Lake) to be effective 12/11/2018.

Filed Date: 12/10/18.

Accession Number: 20181210-5185.

Comments Due: 5 p.m. ET 12/31/18.

Docket Numbers: ER19-528-000.

Applicants: New York Independent System Operator, Inc.

Description: § 205(d) Rate Filing: 205 filing re: Public Policy Transmission Planning Process revisions to be effective 2/10/2019.

Filed Date: 12/11/18.

Accession Number: 20181211-5052.

Comments Due: 5 p.m. ET 1/2/19.

Docket Numbers: ER19-529-000.

Applicants: Brookfield Renewable Trading and Marketing LP.

Description: Baseline eTariff Filing: Application for MBR, Waivers, Blanket Authority, Confidential & Expedited Action to be effective 1/15/2019.

Filed Date: 12/11/18.

Accession Number: 20181211-5111.

Comments Due: 5 p.m. ET 1/2/19.

Docket Numbers: ER19-530-000.

Applicants: San Diego Gas & Electric Company.

Description: § 205(d) Rate Filing: SDGE NEET West AGMT 60 V 11 IA to be effective 12/12/2018.

Filed Date: 12/11/18.

Accession Number: 20181211-5113.

Comments Due: 5 p.m. ET 1/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2018.
Nathaniel J. Davis, Sr.,
Deputy Secretary.

[FR Doc. 2018-27232 Filed 12-14-18; 8:45 am]

BILLING CODE 6717-01-P